DEPARTMENT OF DEFENSE

Department of the Navy

Meeting of the Naval Research Advisory Committee

AGENCY: Department of the Navy, DOD.

ACTION: Notice of closed meetings.

SUMMARY: The Naval Research Advisory Committee will meet to discuss classified information from government organizations and proprietary information from commercial organizations. All sessions of the meetings will be devoted to briefings, discussions and technical examination of information related to Distributed Operations and Software-Intensive Systems. Discussions will focus on the assessment of the emergent concept of Marine Corps Distributed Operations and determine appropriate options for associated training, key upstream investments, technology monitoring, and go/no-go assessment points; and probable time frames for exploration and implementation. The sessions will also identify, review, and assess challenges with the utilization and field computer-based acquisition tools in the context of Software-Intensive Systems across multiple organizations.

DATES: The meetings will be held on Monday, June 12, 2006 through Friday, June 16, 2006, from 8 a.m. to 5 p.m.; Monday, June 19, 2006 through Thursday, June 22, 2006, from 8 a.m. to 5 p.m.; and Friday, June 23, 2006, from 8 a.m. to 11 a.m.

ADDRESSES: The meetings will be held at the Space and Naval Warfare Systems Center, San Diego, CA 92152.

FOR FURTHER INFORMATION CONTACT: Dr. Sujata Millick, Program Director, Naval Research Advisory Committee, 875 North Randolph Street, Arlington, VA 22203-1995, 703-696-6769.

SUPPLEMENTARY INFORMATION: This notice is provided in accordance with the provisions of the Federal Advisory Committee Act (5 U.S.C. App. 2). All sessions of the meeting will be devoted to executive sessions that will include discussions and technical examination of information related to distributed operations and software-intensive systems. These briefings and discussions will contain proprietary information and classified information that is specifically authorized under criteria established by Executive Order to be kept secret in the interest of national defense and are, in fact, properly classified pursuant to such Executive Order. The proprietary, classified and non-classified matters to be discussed are so inextricably intertwined as to preclude opening any portions of the meetings. In accordance with 5 U.S.C. App. 2, section 10(d), the Secretary of the Navy has determined in writing that the public interest requires that all sessions of the meetings be closed to the public because they will be concerned with matters listed in 5 U.S.C. section 552b(c)(1) and (4).

Dated: May 22, 2006.
M.A. Harvison,
Lieutenant, Judge Advocate General's Corps, U.S. Navy, Federal Register Liaison Officer.

[FR Doc. E6-8131 Filed 5-25-06; 8:45 am]

BILLING CODE 3810-FF-P